DEPARTMENT OF AGRICULTURE

Forest Service

Deschutes Provincial Advisory Committee (DPAC)

AGENCY: Forest Service, USDA.

ACTION: Notice of meeting.

SUMMARY: The Deschutes Advisory Committee will meet on April 17th, 2003 starting at 9 a.m. at the Jefferson County Firehall on the corner of Adam and “J” Street in Madras, Oregon. Agenda items will include a presentation on the Deschutes National Forest Recreation Initiative, Update on the status of the Aquatic Conservation Strategy and Survey and Manage Supplemental EISs, Update on the Upper Deschutes Resource Management Plan and Metolious Basin Subcommittees, Rechartering, and a briefing on the new Stewardship Contract authority. The remainder of the day will include info sharing and a Public Forum from 4 p.m. until 4:30 p.m. All Deschutes Province Advisory Committee Meetings are open to the public.

FOR FURTHER INFORMATION CONTACT: Mollie Chaudet, Province Liaison, USDA, Prineville BLM, 3050 NE 3rd St., Prineville, OR 97754, Phone (541) 416-6872.

Dated: March 31, 2003.
Leslie A.C. Weldon,
Deschutes National Forest Supervisor.

[FR Doc. 03-8319 Filed 4-4-03; 8:45 am]

BILLING CODE 3410-11-M